DEPARTMENT OF TREASURY

Office of the Secretary

31 CFR Part 10

[TD 9165]

RIN 1545-BA70

Regulations Governing Practice Before the Internal Revenue Service

Correction

In rule document 04-27678 beginning on page 75839 in the issue of Monday, December 20, 2004, make the following correction:

§10.37 [Corrected]

On page 75845 in §10.37, in the second column, in the second paragraph, in the third line, “June 20, 2004” should read “June 20, 2005”.

[FR Doc. C4-27678 Filed 4-12-05; 8:45 am]

BILLING CODE 1505-01-D